INTERNATIONAL TRADE COMMISSION

[Investigation No. 731-TA-1153 (Second Review)]

Certain Tow-Behind Lawn Groomers and Parts Thereof From China

Determination

On the basis of the record ¹ developed in the subject five-year review, the United States International Trade Commission (“Commission”) determines, pursuant to the Tariff Act of 1930 (“the Act”), that revocation of the antidumping duty order on certain tow-behind lawn groomers and parts thereof from China would be likely to lead to continuation or recurrence of material injury to an industry in the United States within a reasonably foreseeable time.²

¹ The record is defined in § 207.2(f) of the Commission's Rules of Practice and Procedure (19 CFR 207.2(f)).

² Commissioner Amy A. Karpel did not participate in this vote.

Background

The Commission instituted this review on January 2, 2020 (85 FR 117) and determined on April 6, 2020 that it would conduct an expedited review (85 FR 34464, June 4, 2020).

The Commission made this determination pursuant to section 751(c) of the Act (19 U.S.C. 1675(c)). It completed and filed its determination in this review on July 9, 2020. The views of the Commission are contained in USITC Publication 5089 (July 2020), entitled Certain Tow-Behind Lawn Groomers and Parts Thereof from China: Investigation No. 731-TA-1153 (Second Review).

By order of the Commission.
Issued: July 9, 2020.
Katherine Hiner,
Supervisory Attorney.

[FR Doc. 2020-15270 Filed 7-14-20; 8:45 am]

BILLING CODE 7020-02-P